FEDERAL COMMUNICATIONS COMMISSION

47 CFR Part 73

[DA 04-2266; MB Docket No. 04-97, RM-10897, RM-10898; MB Docket No. 04-98, RM-10899; MB Docket No. 04-99, RM-10900; MB Docket No. 04-100, RM-10901; MB Docket No. 04-101, RM-10902, RM-10903; MB Docket No. 04-102, RM-10904, RM-10905, RM-10906; MB Docket No. 04-103, RM-10907; MB Docket No. 04-104, RM-10908, MB Docket No. 04-105, RM-10909, RM-10910, RM-10911; MB Docket No. 04-106, RM-10912; MB Docket No. 04-107, RM-10913, RM-10914; MB Docket No. 04-108, RM-10915, RM-10916, RM-10917, RM-10918; MB Docket No. 04-109, RM-10919; MB Docket No. 04-110, RM-10920, RM-10921, RM-10922]

Radio Broadcasting Services; Canton, IL, Cedarville, IL, Council Grove, KS, Clifton, IL, Farmersburg, IN, Freeport, IL, Fowler, IN, Golden Meadow, LA, Homer, LA, Madison, IN, Pinckneyville, IL, Ringgold, LA, Smith Mills, KY and Terre Haute, IN

AGENCY: Federal Communications Commission.

ACTION: Final rule.

SUMMARY: The Audio Division grants fourteen reservation proposals requesting to amend the FM Table of Allotments by reserving certain vacant FM allotments for noncommercial educational use in Canton, Illinois, Cedarville, Illinois, Council Grove, Kansas, Clifton, Illinois, Farmersburg, Indiana, Freeport, Illinois, Fowler, Indiana, Golden Meadow, Louisiana, Homer, Louisiana, Madison, Indiana, Pinckneyville, Illinois, Terre Haute, Indiana, Ringgold, Louisiana and Smith Mills, Kentucky. At the request of Illinois State University and Starboard Media Foundation, Inc., the Audio Division grants petitions requesting to reserve vacant Channel 277A at Canton, Illinois for noncommercial educational use. The reference coordinates for Channel *277A at Canton are 40-28-27 North Latitude and 90-03-01 West Longitude. At the request of The Catholic Diocese of Rockford, the Audio Division grants a petition requesting to reserve vacant Channel 258A at Cedarville, Illinois for noncommercial educational use. The reference coordinates for Channel *258A at Cedarville are 42-21-50 North Latitude and 89-40-59 West Longitude. At the request of Starboard Media Foundation, Inc., the Audio Division grants a petition requesting to reserve vacant Channel 297A at Clifton, Illinois for noncommercial educational use. The reference coordinates for Channel *297A at Clifton are 40-52-0 North Latitude and 87-58-0 West Longitude. See Supplementary Information, infra.

DATES: Effective September 7, 2004.

ADDRESSES: Federal Communications Commission, 445 Twelfth Street, SW., Washington, DC. 20554.

FOR FURTHER INFORMATION CONTACT: Rolanda F. Smith, Media Bureau, (202) 418-2180.

SUPPLEMENTARY INFORMATION: This is a synopsis of the Commission's Report and Order, MB Docket Nos. 04-97, 04-98, 04-99, 04-100, 04-101, 04-102, 04-103, 04-104, 04-105, 04-106, 04-107, 04-108, 04-109, 04-110 adopted July 21, 2004 and released July 23, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160, or via the Web site www.BCPIWEB.com. The Commission will send a copy of this Report and Order in a report to be sent to Congress and the General Accounting Office pursuant to the Congressional Review Act, see 5 U.S.C. 801(a)(1)(A).

At the request of Starboard Media Foundation, Inc., the Audio Division grants a petition requesting to reserve vacant Channel 295A at Freeport, Illinois for noncommercial educational use. The reference coordinates for Channel *295A at Freeport are 42-19-28 North Latitude and 89-35-13 West Longitude. At the request of Starboard Media Foundation, Inc. and Miller Media, the Audio Division grants petitions to reserve vacant Channel 282A at Pinckneyville, Illinois for noncommercial educational use. The reference coordinates for Channel *282A at Pinckneyville are 38-5-30 North Latitude and 89-22-46 West Longitude. At the request of American Family Association, Starboard Media Foundation, Inc., and Word Power, Inc., the Audio Division grants petitions requesting to reserve vacant Channel 242A at Farmersburg, Indiana for noncommercial educational use. The reference coordinates for Channel *242A at Farmersburg are 39-15-18 North Latitude and 87-23-0 West Longitude. At the request of Starboard Media Foundation, Inc., the Audio Division grants a petition requesting to reserve vacant Channel 291A at Fowler, Indiana for noncommercial educational use. The reference coordinates for Channel *291A at Fowler are 40-38-5 North Latitude and 87-18-46 West Longitude. At the request of American Family Association, the Audio Division grants a petition requesting to reserve vacant Channel 266A at Madison, Indiana for noncommercial educational use. The reference coordinates for Channel *266A at Madison are 38-49-15 North Latitude and 85-18-46 West Longitude. At the request of Living Proof, Inc., Word Power, Inc. and The Trustees of Indiana University, the Audio Division grants petitions requesting to reserve vacant Channel 298B at Terre Haute, Indiana for noncommercial educational use. The reference coordinates for Channel *298B at Terre Haute are 39-30-14 North Latitude and 87-26-37 West Longitude. At the request of Great Plains Christian Radio, Inc., the Audio Division grants a petition requesting to reserve vacant Channel 281C3 at Council Grove, Kansas for noncommercial educational use. The reference coordinates for Channel *281C3 at Council Grove are 38-39-42 North Latitude and 96-29-18 West Longitude. At the request of American Family Association and Starboard Media Foundation, Inc., the Audio Division grants petitions requesting to reserve vacant Channel 233A at Smith Mills, Kentucky for noncommercial educational use. The reference coordinates for Channel *233A at Smith Mills are 37-47-26 North Latitude and 87-55-23 West Longitude. At the request of American Family Association, Starboard Media Foundation, Inc., Providence Educational Foundation, and Calvary of New Orleans, the Audio Division grants petitions requesting to reserve vacant Channel 289C2 at Golden Meadow, Louisiana for noncommercial educational use. The reference coordinates for Channel *289C2 at Golden Meadow are 29-14-0 North Latitude and 90-15-0 West Longitude. At the request of American Family Association, the Audio Division grants a petition requesting to reserve vacant Channel 272A at Homer, Louisiana for noncommercial educational use. The reference coordinates for Channel *272A at Homer are 32-42-41 North Latitude and 92-56-35 West Longitude. At the request of American Family Association, Starboard Media Foundation, Inc., Southern Cultural Outreach Association, Inc., the Audio Division grants a petition requesting to reserve vacant Channel 253C3 at Ringgold, Louisiana for noncommercial educational use. The reference coordinates for Channel *253C3 at Ringgold are 32-19-49 North Latitude and 93-12-33 West Longitude.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Channel *277A and by removing Channel 277A at Canton; by adding Channel *258A and by removing Channel 258A at Cedarville; by adding Channel *297A and by removing Channel 297A at Clifton; and by adding Channel *295A and by removing Channel 295A at Freeport; and by adding Channel *282A and by removing Channel 282A at Pinckneyville.

3. Section 73.202(b), the Table of FM Allotments under Indiana, is amended by adding Channel *242A and by removing Channel 242A at Farmersburg; by adding Channel *291A and by removing Channel 291A at Fowler; by adding Channel *266A and by removing Channel 266A at Madison; and by adding Channel *298B and by removing Channel 298B at Terre Haute.

4. Section 73.202(b), the Table of FM Allotments under Kansas, is amended by adding Channel *281C3 and by removing Channel 281C3 at Council Grove.

5. Section 73.202(b), the Table of FM Allotments under Kentucky, is amended by adding Channel *233A and by removing Channel 233A at Smith Mills.

6. Section 73.202(b), the Table of FM Allotments under Louisiana, is amended by adding Channel *289C2 and by removing Channel 289C2 at Golden Meadow; by adding Channel *272A and by removing Channel 272A at Homer; and by adding Channel *253C3 and by removing Channel 253C3 at Ringgold.

Federal Communications Commission.
John A. Karousos,
Assistant Chief, Audio Division, Media Bureau.

[FR Doc. 04-17901 Filed 8-5-04; 8:45 am]

BILLING CODE 6712-01-P